DEPARTMENT OF LABOR

Employment and Training Administration

[TA-W-50,934 and TA-W-50,934A]

Shadowline, Incorporated, Morganton, North Carolina and Shadowline, Incorporated, Boone, NC; Amended Certification Regarding Eligibility To Apply for Worker Adjustment Assistance

In accordance with section 223 of the Trade Act of 1974 (19 U.S.C. 2273) the Department of Labor issued a Certification of Eligibility to Apply for Worker Adjustment Assistance on March 10, 2003, applicable to workers of Shadowline, Incorporated, Morganton, North Carolina. The notice will soon be published in the Federal Register.

At the request of a company official, the Department reviewed the certification for workers of the subject firm. The workers produced lingerie. Information contained in the record shows that the company intended workers in Boone, North Carolina to be included in the certification. The workers at both North Carolina locations are considered by the company as one worker group. Data collected from the company official were for both locations.

It is the Department's intent to include all workers of Shadowline, Incorporated, adversely affected by increased imports. Accordingly, the Department is amending the certification to include all workers of Shadowline, Incorporated, located in Boone, North Carolina.

The amended notice applicable to TA-W-50,934 is hereby issued as follows:

All workers of Shadowline, Incorporated, Morganton, North Carolina (TA-W-50,934) and Boone, North Carolina (TA-W-50,934A), who became totally or partially separated from employment on or after February 11, 2002, through March 10, 2005, are eligible to apply for adjustment assistance under section 223 of the Trade Act of 1974.

Signed in Washington, DC, this 31st day of March, 2003.
Richard Church,
Certifying Officer, Division of Trade Adjustment Assistance.

[FR Doc. 03-9152 Filed 4-14-03; 8:45 am]

BILLING CODE 4510-30-P